INTERNATIONAL TRADE COMMISSION

[Investigation Nos. 701-TA-681 and 731-TA-1591 (Final)]

White Grape Juice Concentrate From Argentina; Revised Schedule for the Subject Investigations

AGENCY: United States International Trade Commission.

ACTION: Notice.

DATES: February 28, 2023.

FOR FURTHER INFORMATION CONTACT: Ahdia Bavari (202-205-3191), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for these investigations may be viewed on the Commission's electronic docket (EDIS) at https://edis.usitc.gov.

SUPPLEMENTARY INFORMATION: Effective November 3, 2022, the Commission published its schedule for the final phase of these investigations (87 FR 75066, December 7, 2022). On February 23, 2023, counsel for the petitioner, Delano Growers Grape Products, LLC, and counsel for respondents, Cepas Argentinas S.A. and Federación de Cooperativas Vitivinicolas Argentinas Coop. Ltda., filed with the Secretary to the Commission requests that the schedule in these investigations be modified to give the Department of Commerce (Commerce) and the parties to these investigations the opportunity to fully consider the proposed agreements suspending the antidumping and countervailing duty investigations on white grape juice concentrate from Argentina. The Commission granted these requests, in part, and is hereby revising its schedule.

The Commission's new schedule for these investigations is as follows: the prehearing staff report will be placed on the nonpublic record on March 13, 2023; the deadline for filing prehearing briefs is March 20, 2023; requests to appear at the hearing must be filed with the Secretary to the Commission not later than March 20, 2023; if deemed necessary, the prehearing conference will be held at 9:30 a.m. on March 23, 2023; the hearing will be held at 9:30 a.m. on March 27, 2023; the deadline for filing posthearing briefs is March 31, 2023; the Commission will make its final release of information on April 18, 2023; and final party comments are due on April 20, 2023.

For further information concerning these proceedings, see the Commission's notice cited above and the Commission's Rules of Practice and Procedure, part 201, subparts A through E (19 CFR part 201), and part 207, subparts A and C (19 CFR part 207).

Authority: These investigations are being conducted under authority of title VII of the Tariff Act of 1930; this notice is published pursuant to § 207.21 of the Commission's rules.

By order of the Commission.
Issued: March 2, 2023.
Lisa Barton,
Secretary to the Commission.

[FR Doc. 2023-04638 Filed 3-6-23; 8:45 am]

BILLING CODE 7020-02-P